DEPARTMENT OF STATE

[Public Notice 4010]

Privacy Act of 1974, as Amended: Altered Systems of Records

Notice is hereby given that the Department of State proposes to alter three systems of records, STATE-02, STATE-11 and STATE-20 pursuant to the provisions of the Privacy Act of 1974, as amended (5 U.S.C. 552a(r)), and the Office of Management and Budget Circular No. A-130, Appendix I. The Department's report was filed with the Office of Management and Budget on April 25, 2002.

It is proposed that due to the expanded scope of the current systems, the altered system descriptions will include revisions and/or additions to all sections except the system name. Changes to the existing system descriptions are proposed in order to reflect more accurately the Office of the Legal Adviser's record-keeping systems and a reorganization of activities and operations. Any persons interested in commenting on the altered systems of records may do so by submitting comments in writing to Margaret Peppe; Chief, Programs and Policies Division; Office of IRM Programs and Services; A/RPS/IPS/PP; U.S. Department of State, SA-2; Washington, DC 20522-6001. These systems of records will be effective 40 days from the date of publication, unless we receive comments that will result in a contrary determination.

The altered system descriptions, “Board of Appellate Review, STATE-02,” “Extradition Records, STATE-11,” and “Legal Adviser Attorney Employment Application Records, STATE-20,” will read as set forth below.

Dated: April 25, 2002.
William A. Eaton,
Assistant Secretary for the Bureau of Administration, Department of State.

STATE-02

System name:

Board of Appellate Review Records.

Security classification:

Unclassified.

System location:

Department of State; 2201 C Street, NW; Washington, DC 20520.

Categories of individuals covered by the system:

Individuals whose appeal in cases involving loss of nationality or the revocation of a passport was decided by the Board of Appellate Review (Board).

Categories of records in the system:

Correspondence between the appellant or his/her attorney and the Department, the appellant's passport file*, and copies of decisions rendered by the Board of Appellate Review.

* These records are only held in the Board of Appellate Review Records, STATE-02, for the duration of the review after which they are returned to Passport Records, STATE-26.

Authority for maintenance of the system:

22 CFR part 7 (Board of Appellate Review); 22 CFR part 50 (Nationality Procedures); 22 CFR part 51 (Passports).

Purpose(s):

The information collected and maintained records the actions of the Board of Appellate review which directly affects the citizenship and passports of those who appeal Department of State determinations.

Routine uses of records maintained in the system, including categories of users and purposes of such uses:

The information in this system is primarily used:

• By the Board to review individual cases under appeal involving loss of U.S. citizenship and revocation of U.S. passport cases;

• By the Board for its value as a body of precedents and as an analysis of relevant law and regulations;

• By the Department of Justice when seeking assistance in determining the citizenship status and passport eligibility of an individual; and

• By attorneys representing the individual.

Also see the “Routine Uses” Paragraph of the Prefatory Statement published in the Federal Register and on our web site at www.foia.state.gov.

Policies and practices for storing, retrieving, accessing, retaining and disposing of records in the system:

Storage:

Electronic media, hard copy.

Retrievability:

Individual name.

Safeguards:

All employees of the Department of State have undergone a thorough background security investigation. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage.

Retention and disposal:

These records will be maintained until they become inactive, at which time they will be retired or destroyed in accordance with published records schedules of the Department of State and as approved by the National Archives and Records Administration. More specific information may be obtained by writing to the Director; Office of IRM Programs and Services; SA-2; Department of State; 515 22nd Street, NW; Washington, DC 20522-6001.

System manager(s) and address:

Executive Director; Office of the Legal Adviser; Department of State; 2201 C Street, NW; Washington, DC 20520.

Notification procedure:

Individuals who have reason to believe that the Board of Appellate Review might have records pertaining to themselves should write to the Director; Office of IRM Programs and Services; SA-2; Department of State; 515 22nd Street, NW; Washington, DC 20522-6001. The individual must specify that he/she wishes the Board of Appellate Review Records to be checked. At a minimum, the individual should include: name; date and place of birth; current mailing address and zip code; signature; a brief description of the circumstances that caused the creation of the record and the approximate dates which give the individual cause to believe that the Board of Appellate Review has records about him/her; and preferably his/her social security number.

Record access and amendment procedures:

Individuals who wish to gain access to or amend records pertaining to themselves should write to the Director; Office of IRM Programs and Services (address above).

Record source categories:

These records contain information obtained primarily from the individual who is the subject of these records and from his/her passport records.

Systems exempted from certain provisions of the Act:

Pursuant to 5 U.S.C. 552a (k)(1) and (k)(2) records in this system of records may be exempted from 5 U.S.C. 552a(c)(3), (d), (e)(1), (e)(4)(G), (H), and (I) and (f).

STATE-11

System name:

Extradition Records.

Security classification:

Unclassified and classified.

System location:

Department of State; 2201 C Street, NW; Washington, DC 20520; and overseas at U.S. embassies, U.S. consulates-general and consulates.

Categories of individuals covered by the system:

Individuals charged with or convicted of an extraditable crime who have fled from the United States and whose return is sought by state or federal law enforcement agencies. Individuals charged with or convicted of an extraditable crime who have been located in the United States and whose return is sought by a foreign government. Individuals charged with or convicted of a state or federal crime in the United States whose return is sought by deportation or expulsion when they have fled the United States for a foreign country.

Categories of records in the system:

Dossiers documenting U.S. and foreign extradition requests of fugitives who are wanted for trial for, or who have been convicted of, crimes committed within the jurisdiction of the United States or foreign countries. Files may contain the following documents: Correspondence between the Office of the Legal Adviser and the U.S. Department of Justice, state and federal authorities in the U.S., courts of law, attorneys; copies of communications with Foreign Service posts serving as intermediaries in the extradition process; diplomatic correspondence to or from foreign governments; copies of interagency and intra-agency electronic communications; file and attorney notes; supporting documents such as copies of court records of the legal proceedings, including, but not limited to, charging documents such as complaints or indictments, warrants, judgments or conviction records, prosecutor and investigative affidavits, witness statements, applicable legal statutes; and identification information, including photos, fingerprints and identification numbers; committal documents, such as the extradition order, affidavit of waiver, legal briefs and hearing transcript, decision memo to the Secretary of State or to his or her Deputy, and the surrender warrant.

Authority for maintenance of the system:

5 U.S.C. 301 (Management of the Department of State); 18 U.S.C. 3181-3196 (Extradition); 22 U.S.C. 2651a (Organization of the Department of State); 22 U.S.C. 3904 (Foreign Relations and Intercourse, Functions of the Foreign Service); 22 U.S.C. 3921 (Management of the Foreign Service); and the U.S. Constitution, Art. VI, sec. 2 (Supremacy of the Constitution, Laws and Treaties).

Purpose(s):

The information contained in this system of records is collected and maintained by the Office of the Legal Adviser, Law Enforcement and Intelligence in the administration of its responsibility to facilitate U.S. and foreign requests for fugitives subject to extradition requests in accordance with international treaty obligations.

Routine uses of records maintained in the system, including categories of users and purposes of such uses:

The information in this system is used exclusively to obtain the arrest and extradition of a fugitive who has committed a felony or extraditable crime and who is the subject of an outstanding domestic or foreign warrant of arrest. Extradition requests and documents are sent to the U.S. Embassy or U.S. Consulate resident in the appropriate countries for transmission to the foreign government, including the foreign ministry and law enforcement agencies. Extradition requests received by the U.S. Department of State from a foreign government are transmitted to the U.S. Department of Justice.

Also see the “Routine Uses” Paragraph of the Prefatory Statement published in the Federal Register and on our web site at www.foia.state.gov.

Policies and practices for storing, retrieving, accessing, retaining and disposing of records in the system:

Storage:

Electronic media, hard copy.

Retrievability:

Individual name.

Safeguards:

All employees of the Department of State have undergone a thorough background security investigation. Access to the Department and its annexes is controlled by security guards and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage.

Retention and disposal:

These records will be maintained until they become inactive, at which time they will be retired or destroyed in accordance with published record schedules of the Department of State and as approved by the National Archives and Records Administration. More specific information may be obtained by writing to the Director; Office of IRM Programs and Services; SA-2; Department of State; 515 22nd Street, NW; Washington, DC 20522-6001.

System manager(s) and address:

Assistant Legal Adviser for Law Enforcement and Intelligence, Office of the Legal Adviser; Room 5419; Department of State; 2201 C Street, NW; Washington, DC 20520.

Notification procedure:

Individuals who have reason to believe that the Office of the Legal Adviser, Law Enforcement and Intelligence might have records pertaining to themselves should write to the Director; Office of IRM Programs and Services; SA-2; Department of State; 515 22nd Street, NW; Washington, DC 20522-6001. The individual must specify that he/she wishes the Extradition Records to be checked. At a minimum, the individual should include: name; date and place of birth; current mailing address and zip code; signature; and preferably his/her social security number; and a brief description of the circumstances that caused the creation of the record.

Record access and amendment procedures:

Individuals who wish to gain access to the records pertaining to themselves should write to the Director; Office of IRM Programs and Services (address above).

Record source categories:

These records contain information obtained primarily from the U.S. Department of Justice, federal and state law enforcement agencies, state and federal courts, offices of the state and federal prosecutors and similar foreign and diplomatic sources, and attorneys representing the individual.

Systems exempted from certain provisions of the Act:

Pursuant to 5 U.S.C. 552a (k)(1) and (k)(2) records contained within this system of records are exempted from 5 U.S.C. 552a (c)(3), (d), (e)(1), (e)(4)(G), (H), and (I), and (f).

STATE-20

System name:

Legal Adviser Attorney Employment Application Records.

Security classification:

Unclassified.

System location:

Department of State; 2201 C Street, NW; Washington, DC 20520.

Categories of individuals covered by the system:

All attorney applicants for employment with the Office of the Legal Adviser (including unsuccessful applicants).

Categories of record in the system:

All categories of records may include identifying information, such as but not limited to, name, date of birth, home address, mailing and e-mail addresses, social security number, and home telephone number. The recruitment and employment files may contain any of the following documents as well as related documents not otherwise stated: resumes, interview opinions, letters of recommendation, applicant's writing samples, college transcripts, academic/professional references, and applications for Federal employment and associated attachments.

Authority for maintenance of the system:

5 CFR 213.3102(d)&(e)(Excepted service attorney positions); 5 CFR 213.3202(a)(Excepted service student positions); 5 U.S.C. 301 (Management of the Department of State); 22 U.S.C. 2581 (General Authority of Secretary of State); and 22 U.S.C. 2651a (Organization of the Department of State).

Purpose(s):

The information contained in this system of records is collected and maintained by the Office of the Legal Adviser in order to fulfill its limited delegation of authority from the Bureau of Human Resources to facilitate the recruiting, processing and appointing of attorneys in the Office of the Legal Adviser.

Routine uses of records maintained in the system, including categories of users and the purpose of such uses:

The information in the Legal Adviser Attorney Employment Application Records is used primarily to fill vacancies in the Office of the Legal Adviser. Information contained in the files is used:

• By the Bureau's Attorney Recruitment Committee and Executive Office Staff to screen and evaluate potential candidates;

• By the selecting official(s) for possible consideration and assessment; and

• By the Bureau of Human Resources to eventually complete the employment processing of selectees.

Also see the “Routine Uses” paragraph of the Prefatory Statement published in the Federal Register and on our web site at www.foia.state.gov.

Policies and practices for storing, retrieving, accessing, retaining, and disposing of records in the system:

Storage:

Electronic media and hard copy.

Retrievability:

Individual name.

Safeguards:

All employees of the Department of State have undergone a thorough background security investigation. Access to the Department of State and its annexes is controlled by security guards, and admission is limited to those individuals possessing a valid identification card or individuals under proper escort. All records containing personal information are maintained in secured file cabinets or in restricted areas, access to which is limited to authorized personnel. Access to computerized files is password-protected and under the direct supervision of the system manager. The system manager has the capability of printing audit trails of access from the computer media, thereby permitting regular and ad hoc monitoring of computer usage.

Retention and disposal:

These records will be maintained until they become inactive at which time they will be retired or destroyed in accordance with published records schedules of the Department of State and as approved by the National Archives and Records Administration. More specific information may be obtained by writing to the Director, Office of IRM Programs and Services; Department of State; SA-2; 515 22nd Street, NW; Washington, DC 20522-6001.

System manager(s) and address:

Executive Director; Office of the Legal Adviser; Department of State; 2201 C Street, NW; Washington, DC 20520.

Notification procedure:

Individuals who have reason to believe that the Office of the Legal Adviser might have records pertaining to themselves should write to the Director, Office of IRM Programs and Services; Department of State; SA-2; 515 22nd Street; NW; Washington, DC 20222-6001. The individual must specify that he/she wishes the Legal Adviser Attorney Employment Application Records to be checked. At a minimum, the individual must include: name; date and place of birth; current mailing address and zip code; signature; and the approximate date on which he/she applied for employment with the Office of the Legal Adviser.

Records access and amendment procedures:

Individuals who wish to gain access to or amend records pertaining to themselves should write to the Director, Office of IRM Programs and Services (address above).

Record source categories:

These records contain information obtained primarily from the individual who is the subject of these records, the Bureau of Human Resources, educational institutions, the Office of the Legal Adviser, and the references provided by the applicant.

System exempted from certain provisions of the Privacy Act:

Pursuant to 5 U.S.C. 552a(k)(5), certain records contained within this system of records are exempted from 5 U.S.C. 552a (c)(3), (d), (e)(1), (e)(4)(G), (H), and (I), and (f).

[FR Doc. 02-11165 Filed 5-6-02; 8:45 am]

BILLING CODE 4710-24-P